DEPARTMENT OF TRANSPORTATION

Federal Aviation Administration

Thirteenth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held October 14-16, 2008 from 9 a.m. to 5 p.m.

ADDRESSES: The meeting will be held at RTCA, Inc., 1828 L Street, NW., Suite 805, Washington, DC 20036. Point of Contact: RTCA Secretariat, Telephone: 202-833-9339, e-mail: rruana@rtca.org.

Note: Dress is Business Casual.

FOR FURTHER INFORMATION CONTACT: (1) RTCA Secretariat, 1828 L Street, NW., Suite 805, Washington DC 20036, telephone (202) 833-9339, fax (202) 833-9434; Web site http://www.rtca.org.

SUPPLEMENTARY INFORMATION: Pursuant to section 10(a)(2) of the Federal Advisory Committee Act (Pub. L. 92-463, 5 U.S.C., Appendix 2), notice is hereby given for a Special Committee 203 meeting. The agenda will include:

October 14

• Opening Plenary Session

• Introductory Remarks and Introductions

• Approval of Twelfth Plenary Summary

• Plenary Presentations:

• SEIT Organization and Revised Work Plan

• Disposition of Master Schedule vl.1 Comments

• Tactical Work Plan for Requirements Product Team

• Tactical Work Plans for C&C and S&A Product Teams

• Overview of Product Team Breakout Sessions

• Plenary Adjourns

October 15

• Product Team Breakout Sessions

• Requirements Product Team

• C&C Product Team

• S&A Product Team

October 16

• Product Team Breakout Sessions

• Requirements Product Team

• C&C Product Team

• S&A Product Team

• Plenary Reconvenes

• Closing Plenary Session

• Other Business

• Date, Place, and Time for Plenary 14

• Adjourn

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on September 15, 2008.
Francisco Estrada C.,
RTCA Advisory Committee.

[FR Doc. E8-22062 Filed 9-22-08; 8:45 am]

BILLING CODE 4910-13-M